DEPARTMENT OF HEALTH AND HUMAN SERVICES

National Institutes of Health

National Institute of Diabetes and Digestive and Kidney Diseases, Diabetes Mellitus Interagency Coordinating Committee Notice of Workshop

SUMMARY: The Diabetes Mellitus Interagency Coordinating Committee (DMICC) will hold a 2-day workshop on June 6-7, 2013. The workshop will be open to the public, with attendance limited to space available.

DATES: The workshop will be held on June 6, 2013 from 8:15 a.m. to 6:00 p.m., and June 7, 2013 from 8:15 a.m. to 4:00 p.m.

ADDRESSES: The workshop will be held at the National Institutes of Health Neuroscience Center, Conference Room B1/B2, 6001 Executive Boulevard, Rockville, MD 20852.

FOR FURTHER INFORMATION CONTACT: For further information concerning this workshop, contact Dr. B. Tibor Roberts, Executive Secretary of the Diabetes Mellitus Interagency Coordinating Committee, National Institute of Diabetes and Digestive and Kidney Diseases, 31 Center Drive, Building 31A, Room 9A19, MSC 2560, Bethesda, MD 20892-2560, telephone: 301-496-6623; FAX: 301-480-6741; email: dmicc@mail.nih.gov.

SUPPLEMENTARY INFORMATION: The DMICC facilitates cooperation, communication, and collaboration on diabetes among government entities. The June 6-7, 2013, DMICC workshop will discuss new and emerging opportunities for type 1 diabetes research supported by the Special Statutory Funding Program for Type 1 Diabetes Research. An agenda for the DMICC workshop will be available by contacting Mary Allen, The Scientific Consulting Group, Inc. (mallen@scgcorp.com; please put “Agenda Request for DMICC T1D Meeting” in the subject line).

Any interested person may file written comments with the Committee by forwarding their statement to the contact person listed on this notice. The statement should include the name, address, telephone number and, when applicable, the business or professional affiliation of the interested person. Because of time constraints for the workshop, there will not be time on the agenda for oral comments from members of the public.

Members of the public who would like to receive email notification about future DMICC meetings may register on a listserv on the DMICC Web site: www.diabetescommittee.gov.

Please note that seating is limited and attendance will be first-come, first-served. Non-federal individuals planning to attend the workshop should register by email to Mary Allen, The Scientific Consulting Group, Inc. (mallen@scgcorp.com; please put “Registration DMICC T1D Meeting” in the subject line) at least 7 days prior to the workshop. Individuals who plan to attend and need special assistance, such as sign language interpretation or other reasonable accommodations, should inform the Contact Person listed below at least 10 days in advance of the workshop.

Dated: April 26, 2013.
B. Tibor Roberts,
Executive Secretary, DMICC, Office of Scientific Program and Policy Analysis, NIDDK, National Institutes of Health.

[FR Doc. 2013-10770 Filed 5-6-13; 8:45 am]

BILLING CODE 4140-01-P